EXPORT-IMPORT BANK

Intent To Conduct a Detailed Economic Impact Analysis

This notice is to inform the public that the Export-Import Bank of the United States has received an application for a loan guarantee to support the export of U.S.-manufactured Boeing 777 wide-body passenger aircraft that will be operated by an airline in Russia, which will provide passenger services. The specific amount of the loan guarantee, the value of the transaction, and the amount of new foreign production capacity are not included here because they are proprietary information. However, the total value of the transaction is in excess of $200 million and, based on currently available information, the amount of increased wide-body seat capacity resulting from these aircraft will be 1% or more of comparable wide-body seat capacity within the U.S. airline industry. The aircraft in this transaction will enable passenger route service within Russia and from Russia to various regional and international destinations, potentially including the United States.

Interested parties may submit comments on this transaction by email to economic.impact@exim.gov or by mail to 811 Vermont Avenue NW., Room 442, Washington, DC 20571, within 14 days of the date this notice appears in the Federal Register.

James C. Cruse,
Senior Vice President, Policy and Planning.

[FR Doc. 2013-27777 Filed 11-19-13; 8:45 am]

BILLING CODE 6690-01-P